THE NATIONAL FOUNDATION FOR THE ARTS AND THE HUMANITIES

Submission for OMB Review, Comment Request, Proposed Collection: IMLS Digital Collections and Content: An Assessment of Opening History

AGENCY: Institute of Museum and Library Services, The National Foundation for the Arts and the Humanities.

ACTION: Submission for OMB review, comment request.

SUMMARY: The Institute of Museum and Library Services announces that the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request, with applicable supporting documentation, may be obtained by contacting the individual listed below in the ADDRESSES section of this notice.

DATES: Written comments must be submitted to the office listed in the ADDRESSES section below on or before June 27, 2011.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Chuck Thomas, Senior Program Officer, Institute of Museum and Library Services, 1800 M Street, NW., 9th Floor, Washington, DC 20036. Telephone: 202-653-4663. E-mail: cthomas@imls.gov or by teletype (TTY/TDD) for persons with hearing difficulty at 202-653-4614.

SUPPLEMENTARY INFORMATION: The Institute of Museum and Library Services (IMLS) is an independent Federal grant-making agency and is the primary source of federal support for the Nation's 123,000 libraries and 17,500 museums. IMLS provides a variety of grant programs to assist the Nation's museums and libraries in improving their operations and enhancing their services to the public. IMLS conducts policy research, analysis, and data collection to extend and improve the Nation's museum, library, and information services. The policy research, analysis, and data collection is used to: Identify national needs for and trends in museum, library, and information services; measure and report on the impact and effectiveness of museum, library, and information services throughout the United States; identify best practices; and develop plans to improve museum, library, and information services of the United States and strengthen national, State, local, regional, and international communications and cooperative networks. (20 U.S.C. Chapter 72, 20 U.S.C. 9108).

Abstract: This national survey of reference service providers in public and academic libraries is intended to help the IMLS Digital Collections and Content (DCC) project evaluate the Opening History resource. Opening History is a publicly available registry and repository of digital cultural heritage collections, expanded from a strong base of collections digitized through IMLS support. Approximately 1,000 cultural heritage institutions contribute to Opening History, including about 500 libraries and 130 museums. This data collection will survey reference service providers about the perceptions of Opening History, its quality and scope, and effectiveness in meeting needs of their local user communities. This collection is necessary to achieve a thorough understanding of how Opening History is used by its target audience and to determine the most effective use of IMLS resources with respect to future development of Opening History and the IMLS DCC.

Current Actions: This notice proposes clearance of the IMLS Digital Collections and Content: An Assessment of Opening History. The 60-day notice for the IMLS Digital Collections and Content: Opening History of Evaluation was published in the Federal Register on May 11, 2010, (FR vol. 75, No. 90, pg. 26283). No comments were received.

Agency: Institute of Museum and Library Services.

Title: IMLS Digital Collections and Content: An Assessment of Opening History.

OMB Number: To be determined.

Agency Number: 3137.

Frequency: One-time survey of no more than 613 reference-service providers.

Affected Public: General public, libraries, museums.

Number of Respondents: 613.

Burden hours per respondent: .3/hr.

Total burden hours: 183.9.

Total Annualized Capital/Startup Costs: $23,922.

Total Costs: $4,921.16.

Contact: Comments should be sent to Office of Information and Regulatory Affairs, Attn.: OMB Desk Officer for Education, Office of Management and Budget, Room 10235, Washington, DC 20503, (202) 395-7316.

Dated: May 26, 2011.
Kim A. Miller,
Management Analyst, Institute of Museum & Library Services.

[FR Doc. 2011-13481 Filed 5-27-11; 8:45 am]

BILLING CODE 7036-01-P